DEPARTMENT OF THE INTERIOR

Bureau of Ocean Energy Management

[Docket No. BOEM-2012-0086]

Environmental Assessment for Potential Commercial Wind Lease Issuance and Site Assessment Activities on the Atlantic Outer Continental Shelf (OCS) Offshore Massachusetts

AGENCY: Bureau of Ocean Energy Management, Interior.

ACTION: Notice of the availability of an environmental assessment.

SUMMARY: Bureau of Ocean Energy Management (BOEM) has prepared an environmental assessment (EA) considering the reasonably foreseeable environmental impacts and socioeconomic effects of issuing renewable energy leases and subsequent site characterization activities (geophysical, geotechnical, archaeological, and biological surveys needed to develop specific project proposals, which will be subject to subsequent environmental review, on those leases) in an identified Wind Energy Area (WEA) on the OCS offshore Massachusetts (MA). This EA also considers the reasonably foreseeable environmental impacts associated with the approval of site assessment activities (including the installation and operation of meteorological towers and buoys) on the leases that may be issued. This EA does not consider issues related to possible later project development. The purpose of this notice is to inform the public of the availability of the EA for review and to solicit public comments on the EA.

BOEM will conduct public information meetings on Tuesday, November 13, 2012, in Boston and New Bedford, Wednesday, November 14, 2012, in Vineyard Haven on Martha's Vineyard, and Thursday, November 15, 2012, on Nantucket, in Massachusetts to explain the proposed activities and provide additional opportunities for public input on the EA. Details on the meeting locations and times, as well as the EA, can be found online at http://www.boem.gov/Renewable-Energy-Program/Smart-from-the-Start/Index.aspx.

FOR FURTHER INFORMATION CONTACT: Michelle Morin, BOEM Office of Renewable Energy, 381 Elden Street, HM 1328, Herndon, Virginia 20170-4817, (703) 787-1340 or michelle.morin@boem.gov.

SUPPLEMENTARY INFORMATION: On February 6, 2012, BOEM published a Notice of Intent (NOI) to prepare an EA, which requested public comments on important environmental issues and alternatives to be considered in the EA; measures (e.g., limitations on activities based on technology, distance from shore, or timing) that would minimize impacts to environmental resources; and socioeconomic conditions that could result from leasing, site characterization, and site assessment in and around the Call Area (77 FR 5830). The Call Area is located offshore Massachusetts. Issues and impacts associated with potential project development will be considered in subsequent environmental analyses after the submittal of project proposals, if any. Comments received in response to the NOI can be viewed at: http://www.regulations.gov by searching for Docket ID BOEM-2011-0116.

On May 30, 2012, BOEM announced the identification of the MA WEA, which excluded high value sea duck habitat and some fishing grounds in the Call Area. The proposed action considered by this EA, under the National Environmental Policy Act (NEPA) (42 U.S.C. 4321-4370f), is leasing and approval of site assessment plans for the entire WEA. BOEM also identified alternatives to the proposed action that would exclude certain portions of the WEA from leasing because of environmental and cultural concerns. Additional information on the MA area identification process can be found at: http://www.boem.gov/Renewable-Energy-Program/State-Activities/Massachusetts.aspx.

BOEM is seeking public input on the EA, including comments on the completeness and adequacy of the environmental analysis and on the measures and operating conditions described in the EA and designed to reduce or eliminate potential environmental impacts. BOEM will consider public comments on the EA in determining whether to issue a Finding of No Significant Impact (FONSI), or conduct additional analysis under NEPA.

Comments

Federal, state, and local government agencies, tribal governments, and other interested parties are requested to submit their written comments on the EA in one of the following ways:

1. Electronically: http://www.regulations.gov. In the entry entitled “Enter Keyword or ID,” enter BOEM-2012-0086, then click “search.” Follow the instructions to submit public comments and view supporting and related materials available for this document.

2. In written form, delivered by hand or by mail, enclosed in an envelope labeled “Comments on Commercial Wind Lease Issuance and Site Assessment Activities on the Atlantic OCS Offshore MA” to: Program Manager, Office of Renewable Energy, Bureau of Ocean Energy Management, 381 Elden Street, HM 1328, Herndon, Virginia 20170-4817.

Comments must be received or postmarked no later than December 3, 2012. All written comments received or postmarked during the comment period will be made available to the public.

Authority: This Notice of the Availability (NOA) of an EA is published pursuant to 43 CFR 46.305.

Dated: October 24, 2012.
Tommy P. Beaudreau,
Director, Bureau of Ocean Energy Management.

[FR Doc. 2012-26905 Filed 11-1-12; 8:45 am]

BILLING CODE 4310-MR-P